DEPARTMENT OF HEALTH AND HUMAN SERVICES

Centers for Disease Control and Prevention

[30 DAY-39-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. The State and Local Area Integrated Survey (SLAITS)—(0920-0406) The Health Resources and Services Administration/Maternal and Child Health Bureau, in partnership with the National Center for Health Statistics (NCHS), Centers for Disease Control and Prevention (CDC) is conducting a new national survey on children with special health care needs (CSHCN) to be conducted in all states and the District of Columbia. The survey is part of NCHS's State and Local Area Integrated Telephone Survey (SLAITS), a telephone survey platform which uses the National Immunization Survey sample frame and was described in a Federal Register notice dated October 22, 1998 (Volume 63, Number 204, pages 56654-56655). This collection of data is authorized by 42 U.S.C. 242k.

The survey will provide, for the first time, uniform national and state-specific data on CSHCN prevalence and impact. In addition, the survey will provide baseline estimates for federal and state performance measures, the year 2010 national prevention objectives, and data for each State's Title V five-year needs assessment. Health care coverage information will be collected on children with and without special health care needs. Those without any health care coverage will be asked a brief set of questions about their familiarity with the State Children's Health Insurance Program.

A screening interview will be completed with parents and guardians in randomly selected households in order to identify children (0-17 years of age) with special health care needs. This initial screening interview will include a brief battery of questions about the presence of special health care needs, as well as demographic questions needed to manage the sample design and estimation process. Approximately 14% to 18% of the screened children are expected to have a special health care need. When a child is identified with a special need, a 15-minute supplemental interview will be completed, including questions on demographics and household income; health and functional status; health insurance; adequacy of health care coverage; access to care; utilization of care; care coordination; satisfaction with care; and impact on the family. For screened children who do not have special health care needs, a sub-sample of parents and guardians will complete a short supplemental interview on health insurance so that state-specific estimates of health insurance coverage for all children can be produced.

Screening interviews will be conducted with about 3,400 families in each state with a goal of identifying 750 children with special health care needs. This sample size will permit accurate and reliable state-level estimates of the prevalence of special health care needs and of associated characteristics such as insurance coverage. State samples of 3,000 children without special health care needs will be asked health insurance coverage questions and about 26,000 families will be asked SCHIP awareness questions. The survey is scheduled to begin in July, 2000, and will remain in the field for 12 months. There is no dollar cost to respondents. The approved burden budget for SLAITS includes the burden hours for this survey. The total burden hours are estimated at 34,819.

Respondents | No. of respondents | No. of responses/ respondents | Average burden/ response (in hrs.) | Total burden (in hrs.)
Screened Households | 102,479 | 1 | 6/60 | 18,248
Families of children with special health care needs | 39,750 | 1 | 15/60 | 9,938
Families of children without special health care needs—insurance status | 159,000 | 1 | 2/60 | 5,300
SCHIP for uninsured children | 26,659 | 1 | 3/60 | 1,333
Total |  |  |  | 34,819

Dated: May 25, 2000.
Charles W. Gollmar,
Acting Associate Director for Policy, Planning and Evaluation, Centers for Disease Control and Prevention (CDC).

[FR Doc. 00-13650 Filed 5-31-00; 8:45 am]

BILLING CODE 4163-18-P